DEPARTMENT OF COMMERCE

National Oceanic and Atmospheric Administration

RIN 0648-XL99

Endangered Species; File No. 1506

AGENCY: National Marine Fisheries Service (NMFS), National Oceanic and Atmospheric Administration (NOAA), Commerce.

ACTION: Notice; receipt of application for modification

SUMMARY: Notice is hereby given that Blair E. Witherington, Ph D., Florida Fish and Wildlife Conservation Commission, Fish and Wildlife Research Institute, Melbourne Beach Field Laboratory, 9700 South A1A, Melbourne Beach, FL 32951, has requested an modification to scientific research Permit No. 1506-01.

DATES: Written, telefaxed, or e-mail comments must be received on or before December 26, 2008.

ADDRESSES: The modification request and related documents are available for review by selecting “Records Open for Public Comment” from the Features box on the Applications and Permits for Protected Species (APPS) home page, https://apps.nmfs.noaa.gov/index.cfm, and then selecting File No. 1506-02 from the list of available applications. These documents are also available for review upon written request or by appointment in the following offices:

Permits, Conservation and Education Division, Office of Protected Resources, NMFS, 1315 East-West Highway, Room 13705, Silver Spring, MD 20910; phone (301)713-2289; fax (301)427-2521; and

Southeast Region, NMFS, 263 13th Ave South, St. Petersburg, FL 33701; phone (727)824-5312; fax (727)824-5309.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1506.

FOR FURTHER INFORMATION CONTACT: Amy Hapeman or Kate Swails, (301)713-2289.

SUPPLEMENTARY INFORMATION: The subject modification to Permit No. 1506, issued on March 23, 2005 (70 FR 20530) is requested under the authority of the Endangered Species Act of 1973, as amended (16 U.S.C. 1531 et seq.) and the regulations governing the taking, importing, and exporting of endangered and threatened species (50 CFR 222-226).

Permit No. 1506-01 authorizes the permit holder to study neonate and juvenile loggerhead (Caretta caretta), green (Chelonia mydas), Kemp's ridley (Lepidochelys kempii), hawksbill (Eretmochelys imbricata) and leatherback (Dermochelys coriacea) sea turtles in the waters of the Gulf of Mexico and the Atlantic Ocean off the coast of Florida. The purpose of the research is to identify developmental habitat, evaluate the extent of ingestion of marine debris, and provide insight into juvenile sea turtle movements and dive patterns. Dr. Witherington may capture up to 250 loggerhead, 100 green, 50 hawksbill, 50 Kemp's ridley, and 10 leatherback sea turtles by handheld dip nets annually. All turtles are measured and released. A subset of green and loggerhead turtles may be transported to a lab and examined with high resolution magnetic resonance interferometry or computerized tomography, held for 3-4 days and released to determine their level of anthropogenic debris ingestion. Annually, four of each species of green, hawksbill, and Kemp's ridley sea turtles may have sonic transmitters and data loggers attached to measure movements and dive patterns, be recaptured after 24 hours to remove the transmitter and released.

The permit holder requests authorization to annually flipper tag and passive integrated transponder tag all captured sea turtles, biopsy sample up to 100 loggerhead, 100 green, and 50 hawksbill sea turtles, and lavage up to 50 loggerhead, 50 green, 50 hawksbill, 50 Kemp's ridley, and 10 leatherback sea turtles. The permit holder also requests authorization to attach harnessed satellite transmitters to 10 Kemp's ridley sea turtles each year. Imaging activities and attachment of sonic transmitters and data loggers would no longer be authorized for any species. No increase in the total number of turtles taken would be authorized. These additional activities would provide information on the genetic origin, diet, movement, and dive patterns of sea turtles in this area. The amendment would be valid until the permit expires on March 31, 2010.

Dated: November 21, 2008.
P. Michael Payne,
Chief, Permits, Conservation and Education Division, Office of Protected Resources, National Marine Fisheries Service.

[FR Doc. E8-28181 Filed 11-25-08; 8:45 am]

BILLING CODE 3510-22-S